DEPARTMENT OF HOMELAND SECURITY

Federal Emergency Management Agency

[Docket ID FEMA-2008-0017]

Voluntary Private Sector Accreditation and Certification Preparedness Program

AGENCY: Federal Emergency Management Agency, DHS.

ACTION: Notice of public meetings; extension of comment period.

SUMMARY: The Federal Emergency Management Agency (FEMA) is announcing the dates, times, locations, and discussion topics for a series of public meetings that will be held to discuss the Department of Homeland Security's (DHS's) Voluntary Private Sector Preparedness Accreditation and Certification Program (PS-Prep). The purpose of these meetings is to provide the public with an opportunity to engage in dialogue with DHS leadership and program managers regarding PS-Prep. Additionally, this notice extends the comment period that was originally established in FEMA's October 16, 2009 Federal Register Notice announcing the intent to select standards for use in PS-Prep. The comment period will now end on January 15, 2010.

DATES: See Supplementary Information section for public meeting dates and times. Comments submitted regarding the October 16, 2009 Federal Register Notice must be received by January 15, 2010.

ADDRESSES: See Supplementary Information section for public meeting addresses and for information on submitting meeting presentations.

You may submit comments on the October 16, 2009 Federal Register Notice, identified by Docket ID FEMA-2008-0017, by one of the following methods:

Federal eRulemaking Portal: http://www.regulations.gov. Follow the instructions for submitting comments.

E-mail: FEMA-POLICY@dhs.gov. Include “Docket ID FEMA-2008-0017” in the subject line of the message.

Fax: 703-483-2999.

Mail/Hand Delivery/Courier: Regulation & Policy Team, Office of Chief Counsel, Federal Emergency Management Agency, Room 835, 500 C St., SW., Washington, DC 20472-3100.

Docket: For access to the docket to read background documents, the October 16, 2009 Federal Register Notice, or comments received, go to the Federal eRulemaking Portal at http://www.regulations.gov, and search for Docket ID “FEMA-2008-0017.” Submitted comments also may be inspected at FEMA, Office of Chief Counsel, Room 835, 500 C St., SW., Washington, DC 20472.

Privacy Act: Regardless of the method used for submitting comments or material, all submissions will be posted, without change, to the Federal eRulemaking Portal at http://www. regulations.gov, and will include any personal information you provide. Therefore, both statements made at the public meetings as well as written comments submitted are public. You may wish to read the Privacy Act notice that is available on the Privacy and Use link on the Administration Navigation Bar of http://www.regulations.gov.

FOR FURTHER INFORMATION CONTACT: Mr. Donald Grant, Incident Management Systems Integration Division, National Preparedness Directorate, National Integration Center, 500 C Street, SW., Washington, DC 20472. Phone: 202-646-3850. E-mail: FEMA-NIMS@dhs.gov.

SUPPLEMENTARY INFORMATION:

I. Background

The Voluntary Private Sector Accreditation and Certification Preparedness Program (PS-Prep) is a DHS program, established under the authority of Title IX of the Implementing Recommendations of the 9/11 Commission Act of 2007 (Pub. L. 110-53). FEMA published a Federal Register Notice on December 24, 2008, at 73 FR 79140, announcing the creation of the program. As discussed in that notice, the purpose of PS-Prep is to raise the level of private sector preparedness by establishing a system in which a private sector entity may voluntarily obtain a certification of conformity with a particular DHS-adopted preparedness standard.

FEMA published a second Federal Register Notice on October 16, 2009, at 74 FR 53286, announcing DHS' intent to select three standards for adoption in the PS-Prep program. The three identified standards selected for adoption in PS-Prep at this time are:

1. National Fire Protection Association 1600:2007—Standard on Disaster/Emergency Management and Business Continuity Programs.

2. British Standard 25999-2:2007—Business Continuity Management.

3. ASIS SPC. 1-2009—Organizational Resilience: Security Preparedness, and Continuity Management Systems—Requirements with Guidance for Use.

II. Announcement of Public Meetings and Extension of Comment Period

Through this notice, FEMA is announcing the dates, times, locations, and discussion topics for a series of ten public meetings that will be held to discuss PS-Prep. The purpose of these meetings is to provide the public with an open forum to engage in dialogue with PS-Prep leadership and program managers, in particular regarding the October 16, 2009 Federal Register Notice announcing the intent to select standards. Additionally, this notice extends the comment period that was originally established in that October 16 notice. The comment period will now be extended by an additional 60 days, and will close on January 15, 2010.

A. Public Meetings

The dates, times, and locations of the public meetings are set out below. Any stakeholder or member of the public is free to attend the meetings. Individuals will have the opportunity to make brief, formal or informal, presentations of not more than 10 minutes, and to engage in a question-and-answer session with DHS staff responsible for implementing PS-Prep.

Presentation topics should be related to one of the seven specific issues to be discussed at this meeting, which are as follows: (1) The identified standards selected for adoption in PS-Prep; (2) any supporting guidance materials in addition to the three identified standards that are needed to help the private sector attain certification to one of the three standards; (3) factors that a business would consider in determining which DHS-adopted standard(s) to pursue for certification under PS-Prep; (4) reasons for businesses to seek certification under the three identified standards; (5) how an organization's certification under PS-Prep would affect or otherwise influence another organization's decision to do business with them; (6) how a maturity model approach could be applied to certification to any of these standards; and (7) what the potential impact (e.g., cost, return on investment, other considerations, etc.) on small businesses might be when attempting to implement any of the three identified standards.

Members of the public who wish to make a presentation are requested to provide their name, presentation description, city in which they plan to present, and contact details (include e-mail address and telephone number), no later than 5 p.m. Eastern Standard Time (EST), one week prior to the stakeholder meeting they plan to attend, via e-mail to the PS-Prep program at privatesectorpreparedness@hsi.dhs.gov.

Everyone who plans to attend a public meeting is respectfully requested to be present and seated by 12:50 p.m. local time (for that meeting). Although every effort will be made to accommodate all members of the public, seating is limited and will be allocated on a first-come, first-served basis. Please note that all meetings may close early if all business is finished.

Public Meeting Dates, Times, and Locations

1. November 17, 2009; Chicago, Illinois, 1 p.m. to 5 p.m. Central Standard Time (CST), Holiday Inn Chicago O'Hare: 5615 North Cumberland Avenue, Chicago, IL 60631; 773-693-5800.

2. November 18, 2009; Kansas City, Missouri, 1 p.m. to 5 p.m. CST, Holiday Inn Kansas City Airport: 11728 N. Ambassador Drive, Kansas City, MO 64153; 816-801-8400.

3. November 19, 2009; Dallas, Texas, 1 p.m. to 5 p.m. CST, Dallas/Fort Worth Marriot Hotel & Golf Club at Champions Circle: 3300 Championship Parkway, Fort Worth, TX 76177; 817-961-0800.

4. December 1, 2009; Oakland, California, 1 p.m. to 5 p.m. Pacific Standard Time (PST), Oakland Marriot City Center: 1001 Broadway, Oakland, CA 94607; 510-451-4000.

5. December 2, 2009; Seattle, Washington, 1 p.m. to 5 p.m. PST, Holiday Inn SEATAC International Airport: 17338 International Boulevard, Seattle, WA 98188; 206-248-1000.

6. December 3, 2009; Denver, Colorado, 1 p.m. to 5 p.m. Mountain Standard Time (MST), Marriott Denver City Center: 1701 California Street, Denver, CO 80202; 303-297-1300.

7. December 8, 2009; Philadelphia, Pennsylvania, 1 p.m. to 5 p.m. EST, Marriott Philadelphia Airport: One Arrivals Road, Philadelphia, PA 19153; 215-492-9000.

8. December 9, 2009; Boston, Massachusetts, 1 p.m. to 5 p.m. EST, Sheraton Boston Hotel: 39 Dalton Street, Boston, MA 02199; 617-236-2000.

9. December 10, 2009; New York City, New York, 1 p.m. to 5 p.m. EST, New York LaGuardia Airport Marriott: 102-05 Ditmars Boulevard, East Elmhurst, NY 11369; 718-565-8900.

10. December 14, 2009; Atlanta, Georgia, 1 p.m. to 5 p.m. EST, Sheraton Gateway Hotel: 1900 Sullivan Road, Atlanta, GA 30337; 770-997-1100.

Information on Service for Individuals With Disabilities

DHS provides reasonable accommodations to individuals with disabilities where appropriate. Persons with disabilities who require special assistance should call the contact person listed below in the FOR FURTHER INFORMATION CONTACT section as early as possible. Please indicate which public meeting you plan to attend, and identify your anticipated special needs.

B. Extension of Comment Period

DHS is extending the comment period initially established in the October 16, 2009 Federal Register Notice announcing the intent to select standards, in order for comments from each public meeting to be taken into account by DHS prior to any formal adoption of those standards. The new comment period will provide an additional 60 days, and will close on January 15, 2010.

DHS requests comments on issues presented in the October 16, 2009 notice, as well as comments on additional standards that satisfy the Target Criteria presented in the December 24, 2008 notice. DHS will accept comments on PS-Prep at any time, and comments will be considered as they are received, but they may not inform DHS' decision on the formal adoption of standards if they are received after the end of the comment period.

Dated: October 28, 2009.
W. Craig Fugate,
Administrator, Federal Emergency Management Agency.

[FR Doc. E9-26599 Filed 11-3-09; 8:45 am]

BILLING CODE 9111-46-P